DEPARTMENT OF STATE

[Public Notice 4060]

Determination Regarding Export-Import Bank Financing of Certain Defense Articles and Services for the Government of Venezuela

Pursuant to section 2(b)(6) of the Export-Import Bank Act of 1945, as amended, Executive Order 11958 of January 18, 1977, as amended by Executive Order 12680 of July 5, 1989, and State Department Delegation of Authority No. 245 of April 23, 2001, I hereby determine that:

(1) The defense articles and services for which the Government of Venezuela has requested Export-Import Bank (Ex-Im Bank) financing, spare parts for the maintenance of 12 OV-10 aircraft, are being sold primarily for anti-narcotics purposes.

(2) The sale of such defense articles and services is in the national interest of the United States.

(3) The requirement for a determination that the Government of Venezuela has complied with all U.S.-imposed end use restrictions on the use of defense articles and services previously financed under the Act is inapplicable at this time because the six previous transactions involving Ex-Im Bank Bank financing of defense articles and services for Venezuela have not been completed. Ex-Im Bank approved financing in support of six prior transactions involving Venezuela, but neither delivery of the defense article nor provision of the defense services have been completed in any of the six cases. The six previous transactions financed in part by Ex-Im Bank include: (1) Two cases involving the maintenance and refurbishment of the OV-10 aircraft in which the service has not yet been performed; (2) one case involving two 150-foot logistic support vessels that have not yet been delivered; (3) one case involving parts for the modification of four frigates that have not yet been installed; and (4) two cases involving reverse osmosis water purification and air conditioning and engine overhaul equipment for four Landing Ship, Tank (LST) vessels that have not yet been delivered or installed.

(4) The requirement for a determination that the Government of Venezuela has not used defense articles or services previously provided under the Act to engage in a consistent pattern of gross violations of internationally recognized human rights Act is inapplicable at this time because the six previous transactions have not been completed. As stated above, Ex-Im Bank financing has been used in connection with six defense articles or services transactions involving the Government of Venezuela. Two transactions involved maintenance and refurbishment of OV-10 aircraft for which the service has not yet been completed. A third transaction involved the delivery of two vessels, a fourth the modification of four frigates, and the fifth and sixth the modification of four Landing Ship, Tank (LST) naval vessels. None of these transactions have been completed.

This determination shall be reported to Congress and shall be published in the Federal Register.

Dated: March 12, 2002.
Richard L. Armitage,
Deputy Secretary of State, Department of State.

[FR Doc. 02-16655 Filed 7-1-02; 8:45 am]

BILLING CODE 4710-10-P